DEPARTMENT OF HOMELAND SECURITY

Federal Emergency Management Agency

[Docket ID FEMA-2021-0002; Internal Agency Docket No. FEMA-B-2178]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Delaware:
Sussex | Town of South Bethany (21-03-0951P). | The Honorable Tim Saxton, Mayor, Town of South Bethany, 402 Evergreen Road, South Bethany, DE 19930. | Town Hall, 402 Evergreen Road, South Bethany, DE 19930. | https://msc.fema.gov/portal/advanceSearch. | Feb. 14, 2022 | 100051
Sussex | Unincorporated areas of Sussex County (21-03-0951P). | The Honorable Michael H. Vincent, President, Sussex County Council, P.O. Box 589, Georgetown, DE 19947. | Sussex County, Administrative Building, 2 The Circle, Georgetown, DE 19947. | https://msc.fema.gov/portal/advanceSearch. | Feb. 14, 2022 | 100029
Florida:
Lee | City of Sanibel (21-04-4276P). | The Honorable Holly D. Smith, Mayor, City of Sanibel, 800 Dunlop Road, Sanibel, FL 33957. | Community Services Department, 800 Dunlop Road, Sanibel, FL 33957. | https://msc.fema.gov/portal/advanceSearch. | Jan. 12, 2022 | 120402
Monroe | City of Key West (21-04-3573P). | The Honorable Teri Johnston, Mayor, City of Key West, P.O. Box 1409, Key West, FL 33041. | City Hall, 1300 White Street, Key West, FL 33041. | https://msc.fema.gov/portal/advanceSearch. | Jan. 24, 2022 | 120168
Monroe | Unincorporated areas of Monroe County (21-04-4442P). | The Honorable Michelle Coldiron, Mayor, Monroe County Board of Commissioners, 25 Ships Way, Big Pine Key, FL 33043. | Monroe County Building Department, 2798 Overseas Highway, Suite 300, Marathon, FL 33050. | https://msc.fema.gov/portal/advanceSearch. | Jan. 24, 2022 | 125129
Monroe | Unincorporated areas of Monroe County (21-04-4719P). | The Honorable Michelle Coldiron, Mayor, Monroe County, Board of Commissioners, 25 Ships Way, Big Pine Key, FL 33043. | Monroe County Building Department, 2798 Overseas Highway, Suite 300, Marathon, FL 33050. | https://msc.fema.gov/portal/advanceSearch. | Feb. 3, 2022 | 125129
Polk | Unincorporated areas of Polk County (21-04-1458P). | Mr. Bill Beasley, Polk County Manager, 330 West Church Street, Bartow, FL 33831. | Polk County Land Development Division, 330 West Church Street, Bartow, FL 33830. | https://msc.fema.gov/portal/advanceSearch. | Feb. 10, 2022 | 120261
Sarasota | City of Sarasota (21-04-4173P). | The Honorable Hagen Brody, Mayor, City of Sarasota, 1565 1st Street, Room 101, Sarasota, FL 34236. | Development Services Department, 1565 1st Street, Sarasota, FL 34236. | https://msc.fema.gov/portal/advanceSearch. | Feb. 7, 2022 | 125120
Massachusetts: Worcester | Town of Holden, (20-01-1690P). | The Honorable Chiara M. Barnes, Chair, Town of Holden, Board of Selectmen, 1204 Main Street, Holden, MA 01520. | Town Hall, 1204 Main Street, Holden, MA 01520. | https://msc.fema.gov/portal/advanceSearch. | Jan. 3, 2022 | 250309
Mississippi: DeSoto. | City of Southaven (21-04-1757P) | The Honorable Darren Musselwhite, Mayor, City of Southaven, 8710 Northwest Drive, Southaven, MS 38671. | Geographic Information Systems (GIS) Department, 8710 Northwest Drive, Southaven, MS 38671. | https://msc.fema.gov/portal/advanceSearch. | Jan. 28, 2022 | 280331
South Carolina:
Berkeley | Unincorporated areas of Berkeley County, (21-04-5806P). | Mr. John Cribb, Berkeley County Supervisor, 1003 Highway 52, Moncks Corner, SC 29461. | Berkeley County, Administration Building, 1003 Highway 52, Moncks Corner, SC 29461. | https://msc.fema.gov/portal/advanceSearch. | Feb. 3, 2022 | 450029
Charleston | Town of Mount Pleasant (21-04-4673P). | The Honorable Will Haynie, Mayor, Town of Mount Pleasant, 100 Ann Edwards Lane, Mount Pleasant, SC 29464. | Engineering and Development Services Department, 100 Ann Edwards Lane, Mount Pleasant, SC 29464. | https://msc.fema.gov/portal/advanceSearch. | Jan. 31, 2022 | 455417
Texas:
Collin | City of Dallas (21-06-1108P). | The Honorable Eric Johnson, Mayor, City of Dallas, 1500 Marilla Street, Suite 5EN, Dallas, TX 75201. | Oak Cliff Municipal Center, 320 East Jefferson Boulevard, Room 312, Dallas, TX 75203. | https://msc.fema.gov/portal/advanceSearch. | Jan. 31, 2022 | 480171
Collin | City of Lavon (21-06-1485P). | The Honorable Vicki Sanson, Mayor, City of Lavon, P.O. Box 340, Lavon, TX 75166. | City Hall, 120 School Road, Lavon, TX 75166. | https://msc.fema.gov/portal/advanceSearch. | Feb. 22, 2022 | 481313
Dallas | City of Garland (21-06-2234P). | The Honorable Scott LeMay, Mayor, City of Garland, P.O. Box 469002, Garland, TX 75046. | Engineering Department, 800 Main Street, Garland, TX 75040. | https://msc.fema.gov/portal/advanceSearch. | Jan. 3, 2022 | 485471
Ellis | City of Waxahachie (20-06-3749P). | The Honorable Doug Barnes, Mayor, City of Waxahachie, P.O. Box 757, Waxahachie, TX 75168. | Public Works and Engineering Department, 401 South Rogers Street, Waxahachie, TX 75168. | https://msc.fema.gov/portal/advanceSearch. | Dec. 20, 2021 | 480211
Navarro | City of Corsicana (21-06-0729P). | The Honorable Don Denbow, Mayor, City of Corsicana, 200 North 12th Street, Corsicana, TX 75110. | City Hall, 200 North 12th Street, Corsicana, TX 75110. | https://msc.fema.gov/portal/advanceSearch. | Jan. 26, 2022 | 480498
Virginia:
Loudoun | Unincorporated areas of Loudoun County (21-03-0460P). | Mr. Tim Hemstreet, Loudoun County Administrator, P.O. Box 7000, Leesburg, VA 20177. | Loudoun County, Mapping and Geographic Information Department, 1 Harrison Street Southeast, 3rd Floor, Leesburg, VA 20175. | https://msc.fema.gov/portal/advanceSearch. | Jan. 18, 2022 | 510090
Loudoun | Unincorporated areas of Loudoun County (21-03-1384P). | Mr. Tim Hemstreet, Loudoun County Administrator, P.O. Box 7000, Leesburg, VA 20177. | Loudoun County, Mapping and Geographic Information Department, 1 Harrison Street Southeast, 3rd Floor, Leesburg, VA 20175. | https://msc.fema.gov/portal/advanceSearch. | Jan. 31, 2022 | 510090
Prince William | City of Manassas (21-03-0728P). | Mr. W. Patrick Pate, City of Manassas Manager, 9027 Center Street, Manassas, VA 20110. | Department of Public Works, 8500 Public Works Drive, Manassas, VA 20110. | https://msc.fema.gov/portal/advanceSearch. | Jan. 14, 2022 | 510122

[FR Doc. 2021-24408 Filed 11-8-21; 8:45 am]

BILLING CODE 9110-12-P